Proclamation 8518 of May 7, 2010

Peace Officers Memorial Day and Police Week, 2010

By the President of the United States of America

A Proclamation

As a Nation, we rely on law enforcement officers to keep our neighborhoods safe, enforce our laws, and respond in times of crisis. These men and women sustain peace and order across America, and we look to them as models of courage and integrity. This week, we honor their extraordinary service and sacrifice, and we remember the fallen heroes whose selfless acts have left behind safer streets and stronger communities.

Every day, peace officers face the threat of violence and danger. They routinely put their lives on the line to defend ours, and the price of that bravery may result in injury, disability, or death. The steadfast dedication of our country’s law enforcement officers warrants more than praise. That is why my Administration has provided billions of dollars in grants to support State, local, and tribal law enforcement agencies. These funds are giving peace officers the tools and resources they need to help ensure our safety.

Thanks to law enforcement officers, our Nation is more secure. They work with vigilance and dedication to identify and arrest those who seek to do us harm. They have also been instrumental in foiling many potential attacks, including the recent plot in New York City’s Times Square. From combating terror and staking out criminals to patrolling our highways, peace officers—with the strong support of their families—maintain stability in our communities as we go about our daily lives. This week, we recognize their invaluable contributions to upholding justice, enforcing the rule of law, and protecting the innocent.

By a joint resolution approved October 1, 1962, as amended (76 Stat. 676), and by Public Law 103-322, as amended (36 U.S.C. 136-137), the President has been authorized and requested to designate May 15 of each year as “Peace Officers Memorial Day” and the week in which it falls as “Police Week.”

NOW, THEREFORE, I, BARACK OBAMA, President of the United States of America, do hereby proclaim May 15, 2010, as Peace Officers Memorial Day and May 9 through May 15, 2010, as Police Week. I call upon all Americans to observe these events with appropriate ceremonies and activities. Let each of us reflect on the ways in which our lives have been touched by the peace officers who stand guard over our neighborhoods.

IN WITNESS WHEREOF, I have hereunto set my hand this seventh day of May, in the year of our Lord two thousand ten, and of the Independence of the United States of America the two hundred and thirty-fourth.

[FR Doc. 2010-11556

Filed 5-11-10; 11:15 am]

Billing code 3195-W0-P